DEPARTMENT OF JUSTICE

Antitrust Division

Notice Pursuant to the National Cooperative Research and Production Act of 1993—Open Mobile Alliance

Notice is hereby given that, on April 26, 2019, pursuant to Section 6(a) of the National Cooperative Research and Production Act of 1993, 15 U.S.C. 4301 et seq. (“the Act”), Open Mobile Alliance (“OMA”) filed written notifications simultaneously with the Attorney General and the Federal Trade Commission disclosing changes in its membership. The notifications were filed for the purpose of extending the Act's provisions limiting the recovery of antitrust plaintiffs to actual damages under specified circumstances. Specifically, Advantech B&B Smartworx, Oranmore, IRELAND; American Innovations, Austin, TX; Carota Corporation, Shanghai, PEOPLE'S REPUBLIC OF CHINA; IOTECC, Uoblenz, GERMANY; Polaris Wireless, Mountain View, CA; RETHING IoT Technologies PC, Chalandri, GREECE; and Traxens, Marseille, FRANCE, have been added as parties to this venture.

Also, Centero, LLC, Marietta, GA; China Mobile Communications Corporation, Beijing, PEOPLE'S REPUBLIC OF CHINA; ControlBEAM Digital Automation, Ontario, CANADA; Eaton Corporation, Cleveland, OH; GreenWave Systems, Inc., Irvine, CA; HaoLianShiDai (Beijing) Technology Co., Ltd., Beijing, PEOPLE'S REPUBLIC OF CHINA; KDDI Corporation, Tokyo, JAPAN; Motorola Solutions, Inc., Schaumburg, IL; Runtime, Redwood City, CA; Silicon Labs, Inc., Montreal, CANADA; STMicroelectronics, Plan-les-Quates, Geneva, SWITZERLAND; and Vodafone Group Services GmbH, Newberry, UNITED KINGDOM, have withdrawn as parties to this venture.

The following members have changed their names: NewNet Communication Technologies, Inc. to SigMast Communications, Bedford, CANADA; and Softbank Mobile Corp. to Softbank Corp., Tokyo, JAPAN.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on May 2, 2018. A notice was published in the Federal Register pursuant to Section 6(b) of the Act on June 5, 2018 (83 FR 26092).

Suzanne Morris,
Chief, Premerger and Division Statistics Unit, Antitrust Division.

[FR Doc. 2019-09623 Filed 5-9-19; 8:45 am]

BILLING CODE 4410-11-P